ENVIRONMENTAL PROTECTION AGENCY

40 CFR Part 52

[EPA-R03-OAR-2008-0472; FRL-8701-9]

Approval and Promulgation of Air Quality Implementation Plans; Virginia; Stafford County Reasonably Available Control Technology Under the 8-Hour Ozone National Ambient Air Quality Standard

AGENCY: Environmental Protection Agency (EPA).

ACTION: Proposed rule.

SUMMARY: EPA is proposing to approve a State Implementation Plan (SIP) revision submitted by the Commonwealth of Virginia. This SIP revision pertains to the requirements in meeting the reasonably available control technology (RACT) under the 8-hour ozone national ambient air quality standard (NAAQS). These requirements are based on: Certification that previously adopted RACT controls in Virginia's SIP that were approved by EPA under the 1-hour ozone NAAQS are based on the currently available technically and economically feasible controls, and that they continue to represent RACT for the 8-hour implementation purposes; a negative declaration demonstrating that no facilities exist in Stafford County for the applicable control technology guideline (CTG) categories; and new RACT determinations. This action is being taken under the Clean Air Act (CAA).

DATES: Written comments must be received on or before September 8, 2008.

ADDRESSES: Submit your comments, identified by Docket ID Number EPA-R03-OAR-2008-0472 by one of the following methods:

A. www.regulations.gov: Follow the on-line instructions for submitting comments.

B. E-mail: fernandez.cristina@epa.gov.

C. Mail: EPA-R03-OAR-2008-0472, Cristina Fernandez, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2008-0472. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Virginia Department of Environmental Quality, 629 East Main Street, Richmond, Virginia 23219.

FOR FURTHER INFORMATION CONTACT: Gregory Becoat, (215) 814-2036, or by e-mail at becoat.gregory@epa.gov.

SUPPLEMENTARY INFORMATION: On April 21, 2008, the Virginia Department of Environmental Quality (VADEQ) submitted a revision to its SIP that addresses Stafford County's requirements of RACT under the 8-hour ozone NAAQS set forth by the CAA.

I. Background

Ozone is formed in the atmosphere by photochemical reactions between volatile organic compounds (VOC), oxides of nitrogen (NOX) and carbon monoxide (CO) in the presence of sunlight. In order to reduce ozone concentrations in the ambient air, the CAA requires all nonattainment areas to apply control on VOC/NOX emission sources to achieve emission reductions. Among effective control measures, RACT controls are a major group for reducing VOC and NOX emissions from stationary sources.

Since the 1970s, EPA has consistently interpreted RACT to mean the lowest emission limit that a particular source is capable of meeting by the application of the control technology that is reasonably available considering technological and economic feasibility. See, e.g., 72 FR 20586 at 20610 (April 25, 2007). Section 182 of the CAA sets forth two separate RACT requirements for ozone nonattainment areas. The first requirement, contained in section 182(a)(2)(A) of the CAA, and referred to as RACT fix-up requires the correction of RACT rules for which EPA identified deficiencies before the CAA was amended in 1990. On March 31, 1994, EPA published a final rulemaking notice approving the Commonwealth of Virginia's SIP revision in order to correct the Commonwealth's VOC RACT regulations and establish and require the implementation for revised SIP regulations to control VOCs (59 FR 15117, March 31, 1994). The second requirement, set forth in section 182(b)(2) of the CAA, applies to moderate (or worse) ozone nonattainment areas as well as to marginal and attainment areas in ozone transport region (OTR) established pursuant to section 184 of the CAA, and requires these areas to implement RACT controls on all major VOC and NOX emission sources and on all sources and source categories covered by a control technique guideline (CTG) issued by EPA. On March 12, 1997, EPA published a final rulemaking notice approving the Commonwealth of Virginia's SIP revision as meeting the CTG RACT provisions of the CAA (62 FR 11332, March 12, 1997). Further details of Virginia's RACT requirements can be found in a Technical Support Document (TSD) prepared for this rulemaking.

The counties of Fairfax, Loudoun, Prince William, and Arlington, as well as the cities of Fairfax, Alexandria, Manassas, Manassas Park, and Falls Church (Northern Virginia Area), along with Stafford County, Virginia, Washington, D.C., and portions of southern Maryland, are part of the OTR. Under the 1-hour ozone NAAQS, these jurisdictions, including Stafford County, Virginia, Washington, D.C., and portions of southern Maryland were originally classified as part of the Metropolitan Washington serious 1-hour ozone nonattainment area located in OTR (56 FR 56694 at 56844, November 6, 1991). As part of the planning process, section 182(b)(2) of the CAA required the Commonwealth of Virginia to implement RACT on all sources and source categories covered by a CTG issued by EPA. Point sources with the potential to emit 50 tons per year or more of VOCs or 100 tons per year or more of NOX that were not covered by a CTG were also required to implement RACT. As a result of failure to meet the attainment date of November 15, 1999, the Metropolitan Washington area was reclassified as a severe nonattainment area for the 1-hour standard (68 FR 3410 at 3425, January 24, 2003). As a result of the reclassification, the Commonwealth of Virginia was required to perform RACT evaluations on point sources with the potential to emit 25 tons per year for either VOC (62 FR 11334, March 12, 1997) or NOX (69 FR 48150, August 9, 2004).

On July 18, 1997, EPA promulgated the new 8-hour NAAQS for ozone (62 FR 38856, July 18, 1997). Under the 8-hour ozone NAAQS, the Metropolitan Washington Area, with the exception of Stafford County, was designated nonattainment for the 8-hour ozone standard and classified as a moderate nonattainment area. Stafford County was included as part of the Fredericksburg area, and was designated as a moderate nonattainment area for the 8-hour ozone NAAQS (69 FR 23858, April 30, 2004). On May 2, 2005 and May 4, 2005, the Commonwealth of Virginia submitted a redesignation request and maintenance plan for the Fredericksburg area, respectively. EPA issued a final rule approving Virginia's redesignation request and maintenance plan for the Fredericksburg area on December 23, 2005 (70 FR 76165).

Although Stafford County is part of the Fredericksburg maintenance area, the requirements of section 184 of the CAA must still be satisfied because Stafford County is also part of the OTR. Section 184(b)(1)(B) of the CAA requires the implementation of RACT with respect to all sources of VOC covered by a CTG. Additionally, section 184(b)(2) of the CAA requires the implementation of major stationary source requirements as if the area were a moderate nonattainment area on any stationary source with a potential to emit of at least 50 tons per year of VOC or 100 tons per year of NOX. Virginia is therefore required to submit to EPA a SIP revision that demonstrates how Stafford County meets the RACT requirements under the 8-hour ozone standard.

EPA requires under the 8-hour ozone NAAQS that states meet the CAA RACT requirements, either through a certification that previously adopted RACT controls in their SIP revisions approved by EPA under the 1-hour ozone NAAQS represent adequate RACT control levels for 8-hour attainment purposes, or through the adoption of new or more stringent regulations that represent RACT control levels. A certification must be accompanied by appropriate supporting information such as consideration of information received during the public comment period and consideration of new data. This information may supplement existing RACT guidance documents that were developed for the 1-hour standard, such that the State's SIP accurately reflects RACTs for the 8-hour ozone standard based on the current availability of technically and economically feasible controls. Adoption of new RACT regulations will occur when states have new stationary sources not covered by existing RACT regulations, or when new data or technical information indicates that a previously adopted RACT measure does not represent a newly available RACT control level. Another 8-hour ozone NAAQS requirement for RACT is to submit a negative declaration that there are no CTG major sources of VOC and NOX emissions within Virginia.

II. Summary of SIP Revision

Virginia's SIP revision for Stafford County contains the requirements of RACT set forth by the CAA under the 8-hour ozone NAAQS. Virginia's SIP revision satisfies the 8-hour RACT requirements through (1) certification that previously adopted RACT controls in Virginia's SIP that were approved by EPA under the 1-hour ozone NAAQS are based on the currently available technically and economically feasible controls, and that they continue to represent RACT for the 8-hour implementation purposes; (2) a negative declaration demonstrating that no facilities exist in Stafford County for the applicable CTG categories; and (3) new RACT determinations.

VOC RACT Controls

Virginia's Regulations and Statutes, under 9 VAC 5 Chapter 40, contain the Commonwealth's VOC RACT controls that were implemented and approved in the Virginia SIP under the 1-hour ozone NAAQS.

Table 1 lists Virginia's VOC RACT controls.

Table 1—Virginia's VOC RACT Controls
Regulation 9 VAC 5-40- | Existing stationary sources: Title of regulation | Existing stationary sources: State effective date | Existing stationary sources: Federal Register date | Existing stationary sources: Citation
460 | Emission Standards for Synthesized Pharmaceutical Products Manufacturing Operations | 02/01/02 | 03/03/06 | 71 FR 10838.
610 | Emission Standards for Rubber Tire Manufacturing Operations | 04/17/95 | 04/21/00 | 65 FR 21315.
1400 | Emission Standards for Petroleum Refinery Operations | 04/17/95 | 04/21/00 | 65 FR 21315.
3290 | Emission Standards for Solvent Metal Cleaning Operations Using Non-Halogenated Solvents | 04/01/97 | 11/03/99 | 64 FR 59635.
3590 | Emission Standards for Large Appliance Coating Application Systems | 04/17/95 | 04/21/00 | 65 FR 21315.
3740 | Emission Standards for Magnet Wire Coating Application Systems | 04/17/95 | 04/21/00 | 65 FR 21315.
3890 | Emission Standards for Automobile and Light Duty Truck Coating Application Systems | 04/17/95 | 04/21/00 | 65 FR 21315.
4040 | Emission Standards for Can Coating Application Systems | 04/17/95 | 04/21/00 | 65 FR 21315.
4190 | Emission Standards for Metal Coil Coating Application Systems | 04/17/95 | 04/21/00 | 65 FR 21315.
4340 | Emission Standards for Paper and Fabric Coating Application Systems | 04/17/95 | 04/21/00 | 65 FR 21315.
4490 | Emission Standards for Vinyl Coating Application Systems | 04/17/95 | 04/21/00 | 65 FR 21315.
4640 | Emission Standards for Metal Furniture Coating Application Systems | 04/17/95 | 04/21/00 | 65 FR 21315.
4790 | Emission Standards for Miscellaneous Metal Parts and Products Coating Application Systems | 04/17/95 | 04/21/00 | 65 FR 21315.
4940 | Emission Standards for Flatwood Paneling Coating Application Systems | 04/17/95 | 04/21/00 | 65 FR 21315.
5080 | Flexographic, Packaging Rotogravure, and Publication Rotogravure Printing Lines | 04/01/96 | 03/12/97 | 62 FR 11334.
5230 | Emission Standards for Petroleum Liquid Storage and Transfer Operations—Stage I Vapor Control Systems—Gasoline Service Stations | 02/01/02 | 03/03/06 | 71 FR 10838.
5230 | Emission Standards for Petroleum Liquid Storage and Transfer Operations—Tank Truck Gasoline Loading Terminals | 02/01/02 | 03/03/06 | 71 FR 10838.
5230 | Emission Standards for Petroleum Liquid Storage and Transfer Operations—Bulk Gasoline Plants | 02/01/02 | 03/03/06 | 71 FR 10838.
5230 | Emission Standards for Petroleum Liquid Storage and Transfer Operations—Petroleum Liquids in Fixed Roof Tanks | 02/01/02 | 03/03/06 | 71 FR 10838.
5230 | Emission Standards for Petroleum Liquid Storage and Transfer Operations—Petroleum Liquid Storage in External Floating Roof Tanks | 02/01/02 | 03/03/06 | 71 FR 10838.
5230 | Emission Standards for Petroleum Liquid Storage and Transfer Operations—Gasoline Tank Trucks and Vapor Collection Systems | 02/01/02 | 03/03/06 | 71 FR 10838.
5510 | Emission Standards for Asphalt Paving Operations | 03/24/04 | 04/27/05 | 70 FR 21625.
6840 | Emission Standards for Solvent Metal Cleaning Operations in the Northern Virginia Volatile Organic Compound Emissions Control Area | 03/24/04 | 06/09/04 | 69 FR 32277.

Virginia also submitted a negative declaration certifying that the following VOC CTG or non-CTG major sources do not exist in Stafford County.

Table 2 lists Virginia's negative declaration for VOC CTG major sources.

Table 2—Documents for Which No Applicable Facilities Exist in Stafford County
Document title
Control of Volatile Organic Compound Leaks from Petroleum Refinery Equipment
Control of Volatile Organic Compound Emissions form Large Petroleum Dry Cleaners
Control of Volatile Organic Compound Emissions from Manufacture of High Density Polyethylene, Polypropylene, and Polystyrene Resins
Control of Volatile Organic Compound Equipment Leaks form Natural Gas/Gasoline Processing Plants
Control of Volatile Organic Compound fugitive Emission from Synthetic Organic Chemical Polymer and Resin Manufacturing Equipment
Control of Volatile Organic Compound Emissions from Air Oxidation Processes in Synthetic Organic Chemical Manufacturing Industry
SOCMI Distillation and Reactor Processes CTG
Wood Furniture
Shipbuilding/repair
Aerospace

NOX RACT Controls

The only facility in Stafford County considered to be a major stationary source for either VOC or NOX is Cellofoam. Because actual VOC emissions from Cellofoam are significantly below the facility's federally enforceable limit, the Cellofoam source specific new RACT determination is appropriate, and therefore, the existing RACT controls can be recertified. Further details can be found in a TSD prepared for this rulemaking.

III. Proposed Action

EPA is proposing to approve the Virginia SIP revision for Stafford County that addresses the requirements of RACT under the 8-hour ozone NAAQS, which was submitted on April 21, 2008. This SIP revision is based on a combination of (1) certification that previously adopted RACT controls in Virginia's SIP that were approved by EPA under the 1-hour ozone NAAQS are based on the currently available technically and economically feasible controls, and that they continue to represent RACT for the 8-hour implementation purposes; (2) a negative declaration demonstrating that no facilities exist in Stafford County for the applicable CTG categories; and (3) new RACT determinations. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the Clean Air Act. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to the Stafford County, VA RACT under the 8-hour ozone NAAQS, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Nitrogen dioxide, Ozone, Reporting and recordkeeping requirements, Volatile organic compounds.

Authority: 42 U.S.C. 7401 et seq.

Dated: July 25, 2008.
Donald S. Welsh,
Regional Administrator, Region III.

[FR Doc. E8-18191 Filed 8-6-08; 8:45 am]

BILLING CODE 6560-50-P